ENVIRONMENTAL PROTECTION AGENCY

40 CFR Part 268

[EPA-HQ-RCRA-2007-0936; FRL-8560-1]

Land Disposal Restrictions: Site-Specific Treatment Variance for P and U-Listed Hazardous Mixed Wastes Treated by Vacuum Thermal Desorption at the EnergySolutions' Facility in Clive, UT

AGENCY: Environmental Protection Agency.

ACTION: Withdrawal of direct final rule.

SUMMARY: On March 6, 2008, the Environmental Protection Agency (EPA) published in the Federal Register a direct final rule granting a site-specific treatment variance to EnergySolutions LLC (EnergySolutions) in Clive, Utah for the treatment of certain P and U-listed hazardous waste containing radioactive contamination using vacuum thermal desorption. At the same time, the EPA also published a parallel proposal in the Federal Register to address any adverse comments received on the direct final rule. We specifically noted that if EPA received adverse comment on the direct final rule, EPA would withdraw the direct final rule and address public comments in any subsequent final rule. Because EPA received an adverse comment, we are withdrawing the direct final rule and will address the comment in a final rule.

DATES: As of May 2, 2008, EPA withdraws the direct final rule published at 73 FR 12017 on March 6, 2008.

FOR FURTHER INFORMATION CONTACT: For more information on this action, contact Elaine Eby, Hazardous Waste Minimization and Management Division, Office of Solid Waste (MC 5302 P), U.S. Environmental Protection Agency, 1200 Pennsylvania Ave., NW., Washington, DC 20460; telephone (703) 308-8449; fax (703) 308-8443; or eby.elaine@epa.gov.

SUPPLEMENTARY INFORMATION: On March 6, 2008 (73 FR 12017), EPA issued a direct final rule and a parallel proposal (73 FR 12043) granting a site-specific treatment variance to EnergySolutions for the treatment of certain P- and U-listed mixed waste using vacuum thermal desorption. The variance establishes an alternative treatment standard to treatment by combustion (CMBST) required for these wastes under EPA rules implementing the land disposal restriction provisions of the Resource Conservation and Recovery Act. EPA stated in the preamble to the direct final rule and parallel proposal that if adverse comments were received by April 7, 2008, we would publish a timely withdrawal of the direct final rule in the Federal Register. EPA subsequently received an adverse comment on the direct final rule and is therefore withdrawing it with today's notice. EPA will address this comment in a subsequent final action, which will be based on the parallel proposed rule (73 FR 12043). As stated in the direct final rule and parallel proposed rule, we will not institute a second comment period on this action.

List of Subjects in 40 CFR Part 268

Environmental protection, Hazardous waste, Mixed waste and variances.

Dated: April 23, 2008.
Susan Parker Bodine,
Assistant Administrator, Office of Solid Waste and Emergency Response.

Accordingly, the amendments to 40 CFR 268.42 and 268.44 which published in the Federal Register on March 6, 2008 at 73 FR 12017 are withdrawn as of May 2, 2008.

[FR Doc. E8-9482 Filed 4-29-08; 8:45 am]

BILLING CODE 6560-50-P